DEPARTMENT OF JUSTICE

28 CFR Part 32

Public Safety Officers' Benefits Program

AGENCY: Office of Justice Programs, Justice.

ACTION: Final rule.

SUMMARY: This order will amend regulations to revise delegations of authority for the review process for determinations regarding claims for benefits under the Public Safety Officers' Benefits Program. The changes to the regulations are designed to increase efficiency, reduce duplication, and streamline the processing of claims.

DATES: This rule takes effect on May 20, 2013.

FOR FURTHER INFORMATION CONTACT: Hope Janke, Director, Public Safety Officers' Benefits Program, Bureau of Justice Assistance, Office of Justice Programs, U.S. Department of Justice, 810 7th Street NW., Washington, DC 20531; telephone: (202) 307-2858.

SUPPLEMENTARY INFORMATION: The Public Safety Officers' Benefits (PSOB) program provides death benefits, disability benefits, and educational assistance benefits to eligible public safety officers or their families when a death or disability occurs in the line of duty. The program, authorized and established by the PSOB Act in 1976, was designed to offer peace of mind to men and women seeking careers as public safety officers and to make a strong statement about the value that the nation places on their commitment to serve their communities in potentially dangerous circumstances. The Office of Justice Programs and Bureau of Justice Assistance (BJA) are engaged in ongoing efforts to improve the performance of the PSOB program including an entirely paperless electronic case management system in order to improve the efficiency of claims processing. Additionally, BJA is ready to launch an effort to revise their claims process and streamline the documentation required of claimants. This rule represents one aspect of the streamlining efforts. Having the legal review function handled by the Department component authorized to administer the PSOB program will maintain that critical function while simplifying the claims administration process, eliminating duplicative efforts across components, and increasing overall programmatic efficiency.

Federal Rulemaking Requirements

A. Executive Order 12866 and 13563

This rule has been drafted and reviewed in accordance with Executive Order 12866, Regulatory Planning and Review. The Department of Justice has determined that this is not a “significant regulatory action” under section 3(f) of Executive Order 12866, and that it relates to a matter of agency organization, management, or personnel. See Executive Order 12866, 3(d)(3). Accordingly, this rule has not been reviewed by the Office of Management and Budget.

B. Executive Order 13132

This regulation will not have substantial direct effects on the States, on the relationship between the federal Government and the States, or on the distribution of power and responsibilities among the various levels of government. Therefore, in accordance with section 6 of Executive Order 13132, the Attorney General has determined that this rule will not have sufficient federalism implications to warrant the preparation of a federalism summary impact statement.

C. Executive Order 12988

This rule meets the applicable standards set forth in sections 3(a) and 3(b)(2) of Executive Order 12988, Civil Justice Reform.

D. Administrative Procedure Act

This rule concerns matters relating to “grants, benefits, or contracts,” 5 U.S.C. 553(a)(2), and also relates to matters of agency management or personnel, and is therefore exempt from the usual requirements of prior notice and comment and a 30-day delay in the effective date. See also 5 U.S.C. 553(d).

E. Regulatory Flexibility Act

The Regulatory Flexibility Act, 5 U.S.C. 601 et seq., does not apply because this rule is a rule of agency organization, procedure, and practice and therefore is not subject to notice-and-comment rulemaking requirements. Id. 553(b)(A).

F. Small Business Regulatory Enforcement Fairness Act of 1996

This rule is not a major rule as defined by section 251 of the Small Business Regulatory Enforcement Fairness Act of 1996, 5 U.S.C. 804. It will not result in an annual effect on the economy of $100 million or more; a major increase in costs or prices; or significant adverse effects on competition, employment, investment, productivity, innovation, or on the ability of United States-based enterprises to compete with foreign-based companies in domestic and export markets.

G. Unfunded Mandates Reform Act of 1995

This rule will not result in the expenditure by State, local, and tribal governments, in the aggregate, or by the private sector of $100 million or more in any one year, and it will not significantly or uniquely affect small governments. Therefore, no actions were deemed necessary under the provisions of the Unfunded Mandates Reform Act of 1995.

H. Paperwork Reduction Act

This rule does not impose any new reporting or recordkeeping requirements under the Paperwork Reduction Act.

List of Subjects in 28 CFR Part 32

Administrative practice and procedure, Claims, Disability benefits, Education, Emergency medical services, Firefighters, Law enforcement officers, Reporting and recordkeeping requirements, Rescue squad.

Accordingly, for the reasons set forth in the preamble, part 32 of title 28 of the Code of Federal Regulations is amended as follows:

PART 32—PUBLIC SAFETY OFFICERS' DEATH, DISABILITY, AND EDUCATIONAL ASSISTANCE BENEFIT CLAIMS

1. The authority citation for part 32 continues to read as follows:

Authority: 42 U.S.C. ch. 46, subch. XII; 42 U.S.C. 3782(a), 3787, 3788, 3791(a), 3793(a)(4) &(b), 3795a, 3796c-1, 3796c-2; sec. 1601, title XI, Public Law 90-351, 82 Stat. 239; secs. 4 through 6, Public Law 94-430, 90 Stat. 1348; secs. 1 and 2, Public Law 107-37, 115 Stat. 219.

2. In § 32.3, the definition for “PSOB Office” is revised to read as follows:

§ 32.3 Definitions.

* * * * *

PSOB Office means the unit of BJA that directly administers the Public Safety Officers' Benefits program.

* * * * *

§ 32.43 [Amended]

3. In § 32.43, remove paragraph (e).

4. In § 32.44, paragraph (a) is revised to read as follows:

§ 32.44 Hearing Officer determination.

(a) Upon his determining a claim, the Hearing Officer shall file a notice of the same simultaneously with the Director (for his review under subpart F of this part in the event of approval) and the PSOB Office, which notice shall specify the factual findings and legal conclusions that support it.

* * * * *

Dated: May 9, 2013.
Mary Lou Leary,
Acting Assistant Attorney General.

[FR Doc. 2013-11872 Filed 5-17-13; 8:45 am]

BILLING CODE 4410-18-P